DEPARTMENT OF LABOR

Employment and Training Administration

[TA-W-54,807]

Robert Bosch Corp., Gallatin, TN; Notice of Termination of Investigation

Pursuant to section 221 of the Trade Act of 1974, as amended, an investigation was initiated on April 29, 2004, in response to a petition filed by on behalf of workers at Robert Bosch Corporation, Gallatin, Tennessee.

The petitioners have requested that the petition be withdrawn. Consequently, the investigation has been terminated.

Signed at Washington, DC, this 10th day of May, 2004.
Linda G. Poole,
Certifying Officer, Division of Trade Adjustment Assistance.

[FR Doc. 04-12633 Filed 6-3-04; 8:45 am]

BILLING CODE 4510-30-P